DEPARTMENT OF THE INTERIOR

Bureau of Reclamation

New Melones Lake Project Resource Management Plan/Environmental Impact Statement (RMP/EIS), Calaveras and Tuolumne Counties, CA

AGENCY: Bureau of Reclamation, Interior.

ACTION: Notice of extension of the scoping period for the New Melones RMP/EIS.

SUMMARY: The Bureau of Reclamation is extending the scoping period for the RMP/EIS to March 19, 2007. The notice of intent for the RMP/EIS was published in the Federal Register on December 18, 2006 (71 FR 75769). The scoping period was originally to end on February 16, 2007.

During the scoping process, several individuals and organizations have indicated that submission of scoping comments by the February 16, 2007 would be a difficult deadline to meet. To encourage additional public input, the public comment period has been extended.

DATES: Written comments on the scope of the proposed RMP/EIS should be received by close of business March 19, 2007.

ADDRESSES: Send your comments to Ms. Elizabeth Vasquez, Natural Resource Specialist, Central California Area Office, Bureau of Reclamation, 7794 Folsom Dam Road, Folsom, CA 95630, or e-mail to evasquez@mp.usbr.gov

FOR FURTHER INFORMATION CONTACT: Ms. Elizabeth Vasquez at 916-988-1707.

SUPPLEMENTARY INFORMATION: Comments received in response to this notice will become part of the administrative record and are subject to public inspection. Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: February 12, 2007.
John Fields,
Acting Regional Environmental Officer, Mid-Pacific Region.

[FR Doc. E7-4250 Filed 3-8-07; 8:45 am]

BILLING CODE 4310-MN-P